FEDERAL COMMUNICATIONS COMMISSION

Notice of Public Information Collection(s) Being Reviewed by the Federal Communications Commission, Comments Requested

March 6, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 9, 2000. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0906.

Title: Annual DTV Report.

Form Number: FCC 317.

Type of Review: Extension of currently approved collection.

Respondents: Business or other for-profit.

Number of Respondents: 100.

Estimated Time per Response: 2.5 hours (2 hour respondent; 0.5 hours contract attorney).

Frequency of Response: Reporting, annually.

Total Annual Burden: 200.

Total Annual Costs: $10,000.

Needs and Uses: The Commission has established a program for assessing and collecting fees for the provision of ancillary or supplementary services by commercial digital television licensees in compliance with Section 336(e)(1) of the Telecommunications Act of 1996. Licensees are required to report, using FCC 317, whether they provided ancillary or supplementary services, which services were provided, the services provided which are subject to a fee, gross revenues received from all feeable ancillary and supplementary services, and the amount of bitstream used to provide ancillary or supplementary service. This data is collected annually from commercial digital television licensees. Licensees providing services subject to a fee will additionally be required annually to file FCC Form 159 (3060-0589) to remit the required fee. Each licensee will be required to retain the records supporting the calculation of the fees due for three years from the date of remittance of fees. The data is used by FCC staff to ensure that DTV licensees comply with the requirements of Section 336(e) of the Communications Act.

OMB Control Number: 3060-0909.

Title: 2000 Central Office Code Utilization Survey (COCUS).

Form Number: N/A.

Type of Review: Extension.

Respondents: Business or other for profit.

Number of Respondents: 3750.

Estimated Time Per Response: 6.9 hours.

Total Annual Burden: 25,875.

Estimated Annual Reporting and Record Keeping Cost Burden: $0.

Frequency of Response: On occasion; Annually.

Needs and Uses: The North American Numbering Plan (NANP) is experiencing an unprecedented amount of growth of area codes. Information obtained from the Central Office Code Utilization Survey (COCUS) will assist Commission staff in determining the scope of the number exhaust problem and identifying methods to help alleviate some of the costs associated with the addition of new area codes and which solutions may provide the greatest impact in different areas of the country.

OMB Control Number: 3060-0848.

Title: Deployment of Wireline Services Offering Advanced Telecommunications Capability, CC Docket No. 98-147.

Form Number: N/A.

Type of Review: Extension.

Respondents: Business or other for profit.

Number of Respondents: 1400.

Estimated Time Per Response: 10.71 (Avg.).

Total Annual Burden: 15,000 hours.

Estimated Annual Reporting and Recordkeeping Cost Burden: 0.

Frequency of Response: On occasion.

Needs and Uses: In CC Docket No. 98-147and CC Docket No. 96-98, the Commission seeks to implement Congress' goal of promoting innovation and investment by all participating in the telecommunications marketplace, order to stimulate competition for all services, including advanced services. In the Third Report and Order and Fourth Report and Order (Order) the Commission also adopted measures to promote the availability of competitive broadband xDSL-based services, especially to residential and small business customers. The Commission amended its unbundling rules to require incumbent LECs to provide unbundled access to a new network element, the high frequency portion of the local loop. The purpose of this is to enable competitive LECs to compete with incumbent LECs to provide to consumers xDSL-based through telephone lines that the competitive LECs share with incumbent LECs. The Commission also adopted spectrum management policies and rules to facilitate the competitive deployment of advanced services.

Collections of information adopted in the proceeding include the following: Incumbent LECs who refuse a competitive carrier's request to condition a loop must make an affirmative showing to the relevant state commission. Incumbent LECs must provide requesting carriers with access to the loop facility for testing, maintenance, and repair. Under certain circumstances an Incumbent LEC must provide test of equipment. All of the collections required are to facilitate the deployment of advanced data services and to implement section 706 of the Communications Act of 1934, as amended.

Federal Communications Commission.
Magalie Roman Salas,
Secretary.

[FR Doc. 00-5851 Filed 3-9-00; 8:45 am]

BILLING CODE 6712-01-P